POSTAL SERVICE

Sunshine Act Meetings

TIME AND DATE: September 9 and 10, 2021, at 9:00 a.m.

PLACE: Potomac, MD.

STATUS: Closed.

MATTERS TO BE CONSIDERED:

Thursday, September 9, 2021, and Friday, September 10, 2021, at 9:00 a.m.

1. Strategic Items.

2. Financial and Operational Matters.

3. Administrative Items.

General Counsel Certification: The General Counsel of the United States Postal Service has certified that the meeting may be closed under the Government in the Sunshine Act.

CONTACT PERSON FOR MORE INFORMATION: Michael J. Elston, Secretary of the Board of Governors, U.S. Postal Service, 475 L'Enfant Plaza SW, Washington, DC 20260-1000. Telephone: (202) 268-4800.

Michael J. Elston,
Secretary.

[FR Doc. 2021-18938 Filed 9-3-21; 11:15 am]

BILLING CODE 7710-12-P